DEPARTMENT OF COMMERCE

Foreign-Trade Zones Board

[S-50-2016]

Approval of Subzone Status—Flemish Master Weavers—Sanford, Maine

On April 21, 2016, the Executive Secretary of the Foreign-Trade Zones (FTZ) Board docketed an application submitted by the City of Waterville, grantee of FTZ 186, requesting subzone status subject to the existing activation limit of FTZ 186, on behalf of Flemish Master Weavers in Sanford, Maine.

The application was processed in accordance with the FTZ Act and Regulations, including notice in the Federal Register inviting public comment (81 FR 25374-25375, 04-28-2016). The FTZ staff examiner reviewed the application and determined that it meets the criteria for approval. Pursuant to the authority delegated to the FTZ Board's Executive Secretary (15 CFR 400.36(f)), the application to establish Subzone 186A is approved, subject to the FTZ Act and the Board's regulations, including section 400.13, and further subject to FTZ 186's 2,000-acre activation limit.

Dated: July 22, 2016.
Elizabeth Whiteman,
Acting Executive Secretary.

[FR Doc. 2016-17891 Filed 7-27-16; 8:45 am]

BILLING CODE 3510-DS-P